DEPARTMENT OF AGRICULTURE

Animal and Plant Health Inspection Service

[Docket No. APHIS-2021-0078]

Notice of Proposed Revision to Requirements for the Importation of Grapes From Chile Into the United States

AGENCY: Animal and Plant Health Inspection Service, USDA.

ACTION: Notice of availability.

SUMMARY: We are advising the public that we have prepared a pest risk assessment (PRA) and a commodity import evaluation document (CIED) relative to the importation into the United States of fresh table grapes from regions of Chile where European grapevine moth (Lobesia botrana, EGVM) is either absent or at very low prevalence. Chile grapes are currently subject to methyl bromide fumigation for EGVM and Chilean false red mite (Brevipalpus chilensis). Based on the PRA and the findings of the CIED, we are also proposing to authorize the importation of grapes from Chile under a systems approach or irradiation for EGVM and B. chilensis; current mitigation measures for Ceratitis capitata, or Medfly, would remain unchanged. We are making the PRA and CIED available to the public for review and comment.

DATES: We will consider all comments that we receive on or before December 16, 2022.

ADDRESSES: You may submit comments by either of the following methods:

• Federal eRulemaking Portal: Go to www.regulations.gov. Enter APHIS-2021-0078 in the Search field. Select the Documents tab, then select the Comment button in the list of documents.

• Postal Mail/Commercial Delivery: Send your comment to Docket No. APHIS-2021-0078, Regulatory Analysis and Development, PPD, APHIS, Station 3A-03.8, 4700 River Road Unit 118, Riverdale, MD 20737-1238.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Claudia Ferguson, Senior Regulatory Policy Specialist, RCC, IRM, PPQ, APHIS, 4700 River Road, Unit 133, Riverdale, MD 20737-1236; (301) 851-2353; Claudia.Ferguson@usda.gov.

SUPPLEMENTARY INFORMATION:

Background

Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the importation of fruits and vegetables into the United States, as well as revising existing requirements for the importation of fruits and vegetables. Paragraph (c) of that section provides that the name and origin of all fruits and vegetables authorized importation into the United States, as well as the requirements for their importation, are listed on the internet at https://epermits.aphis.usda.gov/manual; this address provides access to the Agricultural Commodity Import Requirements database, or ACIR.¹ It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

¹ This address had previously provided access to the Fruit and Vegetable Import Requirements database, or FAVIR. However, on September 30, 2022, the FAVIR database was replaced by the ACIR database.

Chile table grapes (Vitis vinifera L.) are currently listed in ACIR as authorized for importation into the United States subject to methyl bromide fumigation. This requirement was first adopted in 1960 as a risk mitigation measure against the Chilean false red mite (Brevipalpus chilensis), subsequently revised to apply only if quarantine pests were intercepted, and, following frequent pest interceptions, reinstated in 1996 for all shipments. Chile table grapes from areas of Chile under quarantine for Medfly (Ceratitis capitata) are subject to additional pest mitigation measures, which we are not proposing to change.²

² We would, however, clarify that irradiation is an approved phytosanitary treatment for Medfly. This is specified in our PPQ Treatment Manual, but not currently reflected in ACIR.

On August 27, 2008, we published in the Federal Register (73 FR 50577-50582, Docket No. APHIS-2007-0152) a proposed rule ³ to allow the importation of fresh table grapes from Chile into the continental United States under a systems approach. Following an outbreak of European grapevine moth (Lobesia botrana, EGVM) in Chile that same year, and subsequent public comments on the proposed rule regarding the outbreak, APHIS elected not to finalize the proposed rule, as the proposed systems approach did not include EGVM-specific measures. Since that time, we have continued to require that table grapes imported from Chile receive methyl bromide fumigation, which also mitigates the risk of EGVM.

³ To view the proposed rule, go to https://www.regulations.gov/document/APHIS-2007-0152-0001.

The national plant protection organization (NPPO) of Chile has requested that APHIS revise the import requirements for grapes from Chile to the United States to allow the export of table grapes from areas of Chile where EGVM is either absent or at very low prevalence (the Arica and Parinacota, Tarapacá, Antofagasta, Atacama, Coquimbo, and Valparaíso regions of Chile) under a systems approach or irradiation.

In response to this request, APHIS prepared a new pest risk assessment (PRA) that evaluates the risks associated with importation of commercially produced fresh grapes (Vitis vinifera L.) for consumption from Chile into the entire United States. Based on the PRA, a commodity import evaluation document (CIED) was prepared to identify phytosanitary measures that could be applied to grapes from Chile to mitigate pest risk. The CIED recommends that commercially produced shipments of fresh table grapes originating from the Arica and Parinacota, Tarapacá, Antofagasta, Atacama, Coquimbo, and Valparaíso regions of Chile could be imported into the United States under a systems approach or irradiation without the risk of introducing quarantine pests.

Therefore, in accordance with § 319.56-4(c), we are announcing the availability of our PRA and CIED for public review and comment. Those documents, as well as a description of the economic considerations associated with revising the conditions for the importation of table grapes from Chile, may be viewed on the Regulations.gov website or in our reading room (see ADDRESSES above for a link to Regulations.gov and information on the location and hours of the reading room). You may request paper copies of the PRA and CIED by calling or writing to the person listed under FOR FURTHER INFORMATION CONTACT. Please refer to the subject of the analysis you wish to review when requesting copies.

After reviewing any comments we receive, we will announce our decision regarding whether to revise the requirements for the importation of table grapes from Chile in a subsequent notice. If the overall conclusions of our analysis and the Administrator's determination of risk remain unchanged following our consideration of the comments, then we will revise the requirements for the importation of table grapes from Chile as specified in the CIED.

Authority: 7 U.S.C. 1633, 7701-7772, and 7781-7786; 21 U.S.C. 136 and 136a; 7 CFR 2.22, 2.80, and 371.3.

Done in Washington, DC, this 12th day of October 2022.
Anthony Shea,
Administrator, Animal and Plant Health Inspection Service.

[FR Doc. 2022-22518 Filed 10-14-22; 8:45 am]

BILLING CODE 3410-34-P